ENVIRONMENTAL PROTECTION AGENCY

[FRL-7111-2]

Notice of Proposed Prospective Purchaser Agreement Pursuant to the Comprehensive Environmental Response, Compensation and Liability Act of 1980, as Amended by the Superfund Amendments and Reauthorization Act, the Resource Conservation Recovery Act, and the Missouri Hazardous Waste Law, Sentinel Wood Treating Site, Ava Douglas County, MO

AGENCY: Environmental Protection Agency (EPA).

ACTION: Proposal of prospective purchaser agreement for the Sentinel Wood Treating Site.

SUMMARY: Notice is hereby given that a proposed prospective purchaser agreement associated with the Sentinel Wood Treating Site, located in Ava, Douglas County, Missouri, was executed by the Agency on October 25, 2001, the Missouri Department of Natural Resources on November 7, 2001, the Missouri Attorney General's Office on October 22, 2001, the City of Ava on October 19, 2001, and concurred upon by the United States Department of Justice on October 22, 2001. The Site is an inactive woodtreating facility. The agreement, between the City of Ava, Missouri (“the purchaser”), the United States Environmental Protection Agency (“EPA”), and the Missouri Department of Natural Resources (“MDNR”) is subject to final approval after the comment period. The Prospective Purchaser Agreement would resolve certain potential EPA claims under the Comprehensive Environmental Response, Compensation, and Liability Act of 1980, as amended by the Superfund Amendments and Reauthorization Act of 1986 (“CERCLA”), and potential MDNR claims under the Missouri Hazardous Waste Law.

Under this proposed agreement, the purchaser would be required to sample, if necessary, and dispose of contaminated materials that are excavated during road construction and related construction activities, restrict access to two ponds located north of the Site, and refrain from any activity which disturbs the former lagoon area of the Site and the ground water drainage diversion system at the Site. The purchaser must also provide to EPA copies of all construction plans at least thirty (30) days in advance of construction activities. Further, the settlement also requires the purchaser to restrict the use of ground water and ensure non-interference with the performance, operation, and maintenance of any selected response action.

The purchaser is required to grant access to the property to EPA, its authorized officers, employees, representatives, and all other persons performing response actions under EPA oversight. If the purchaser fails to comply with the terms of the Agreement and Covenant Not to Sue, the purchaser would be liable for all litigation and other enforcement costs incurred by the United States to enforce this Agreement.

This notice is also hereby given in accordance with section 7003(d) of the Resource Conservation and Recovery Act (“RCRA”), 42 U.S.C. 6973(d). The proposed settlement includes an EPA covenant not to sue the purchaser pursuant to section 7003 of RCRA, 42 U.S.C. 6973. Commenters may request an opportunity for a public meeting in the affected area in accordance with section 7003(d) of RCRA, 42 U.S.C. 6973(d).

For thirty (30) days following the date of publication of this notice, the Agency will receive written comments relating to the proposed settlement. The Agency's response to any comments received will be available for public inspection at the U.S. Environmental Protection Agency, Region VII, 901 North 5th Street, Kansas City, Kansas 66101, and the information repository for the Sentinel Wood Treating site located at the Douglas County Public Library, Ava, Missouri.

DATES: Comments must be submitted on or before January 2, 2002.

Availability: The proposed settlement is available for public inspection at the U.S. Environmental Protection Agency, Region VII, 901 North 5th Street, Kansas City, Kansas 66101, and the information repository for the Sentinel Wood Treating Site located at the Douglas County Public Library, Ava, Missouri. A copy of the proposed agreement may be obtained from Alyse Stoy, Assistant Regional Counsel, U.S. Environmental Protection Agency, Region VII, 901 North 5th Street, Kansas City, Kansas 66101. Comments should reference “The Sentinel Wood Treating Site Prospective Purchaser Agreement” and should be forwarded to Alyse Stoy, at the above address.

FOR FURTHER INFORMATION CONTACT: Alyse Stoy, Assistant Regional Counsel, Office of Regional Counsel, United States Environmental Protection Agency, Region VII, 901 North 5th Street, Kansas City, Kansas 66101, (913) 551-7826.

Dated: November 16, 2001.
James B. Gulliford,
Regional Administrator, Region VII.

[FR Doc. 01-29867 Filed 11-30-01; 8:45 am]

BILLING CODE 6560-50-P